DEPARTMENT OF TRANSPORTATION

Federal Motor Carrier Safety Administration

49 CFR Chapter III

[Docket No. FMCSA-2007-27748]

Minimum Training Requirements for Entry-Level Drivers of Commercial Motor Vehicles: Negotiated Rulemaking Committee Meetings

AGENCY: Federal Motor Carrier Safety Administration (FMCSA), DOT.

ACTION: Notice of advisory committee public meetings.

SUMMARY: FMCSA announces the meeting schedule for the Entry-Level Driver Training Advisory Committee (ELDTAC), established to complete a negotiated rulemaking on Entry-Level Driver Training (ELDT) for individuals who want to operate Commercial Motor Vehicles (CMVs). ELDTAC is a negotiated rulemaking committee established to develop a Notice of Proposed Rulemaking (NPRM) to implement section 32304 of the Moving Ahead for Progress in the 21st Century (MAP-21) concerning ELDT standards for individuals applying for a commercial driver's license (CDL) or CDL upgrade. The meetings will be held Thursday-Friday, March 19-20, April 9-10 and 23-24, and May 14-15 and 28-29, 2015. The meetings are open to the public for their entirety.

DATES: The meetings will be held Thursday-Friday, March 19-20, April 9-10 and 23-24, and May 14-15 and 28-29, 2015, from 9 a.m. to 4:30 p.m., Eastern Daylight Time (E.T.), on Thursdays and 9 a.m. to 3 p.m., E.T., on Fridays at various locations in Washington, DC, and Arlington, VA. Specific locations and an agenda for each meeting will be posted in advance of the meetings at http://www.fmcsa.dot.gov/eldtac.

FOR FURTHER INFORMATION CONTACT: Ms. Shannon L. Watson, Senior Policy Advisor, Federal Motor Carrier Safety Administration, U.S. Department of Transportation, 1200 New Jersey Avenue SE., Washington, DC 20590, (202) 366-2551, eldtac@dot.gov.

Services for Individuals With Disabilities: For information on facilities or services for individuals with disabilities or to request special assistance at the meeting, contact Eran Segev at (617) 494-3174, eran.segev@dot.gov, one week prior to each meeting.

SUPPLEMENTARY INFORMATION:

I. Background

Entry-Level Driver Training

Section 32304 of the Moving Ahead for Progress in the 21st Century (MAP-21) (Pub. L. 112-141, 126 Stat. 405 (July 6, 2012)) requires FMCSA to establish new regulations concerning ELDT. MAP-21 requires “that the training regulations address knowledge and skills for motor vehicle operation, specific requirements for hazmat and passenger endorsements, create a certificate system for meeting requirements, and require training providers to demonstrate that their training meets uniform standards.” The new requirements would apply to individuals seeking a CDL to operate CMVs, as defined in 49 CFR 383.5.

On August 19, 2014 (79 FR 49044), FMCSA announced that the Agency would explore the feasibility of conducting a negotiated rulemaking concerning entry-level driver training for drivers of CMVs. The Agency announced the hiring of a convener to speak with interested parties about the feasibility of conducting an ELDT negotiated rulemaking and requested public comments by September 18, 2014. As part of the first step in this process, the convener conducted these interviews and submitted a report to the Agency on November 26, 2014, regarding the feasibility of conducting a negotiated rulemaking. The convening report is available both in the rulemaking docket at FMCSA-2007-27748 and on the Internet at eldtac.fmcsa.dot.gov.

On December 10, 2014 (79 FR 73273), FMCSA announced its intent to establish a negotiated rulemaking committee to negotiate and develop proposed regulations to implement the MAP-21 provision concerning ELDT based on the recommendations of the convener. On February 12, 2015 (80 FR 7814), FMCSA announced the appointment of members to the Entry-Level Driver Training Advisory Committee (ELDTAC) established to complete a negotiated rulemaking on ELDT for individuals who want to operate CMVs.

ELDTAC

The ELDTAC is established by charter in accordance with the Federal Advisory committee Act (FACA), 5 U.S.C., App. 2. Transportation Secretary Anthony Foxx signed the ELDTAC charter on January 15, 2015, which provides up to 2 years for the Committee's duration, in accordance with section 14 of FACA. Additionally, as the ELDTAC is a negotiated rulemaking committee (“Reg Neg”), it complies with the Negotiated Rulemaking Act (5 U.S.C. 564). The Committee is effective from the date of signature through January 15, 2017.

ELDTAC Membership

In its December 10, 2014, Federal Register notice, the Agency announced that it was soliciting applications and nominations for membership on the ELDTAC. These members are experts in their respective fields and appointed as Special Government employees or representatives of entities or interests including but not limited to the following: CMV driver training organizations; industry representatives; representatives of driver training schools; motor carriers (of property and passengers) and associations; State licensing agencies; State enforcement agencies; labor unions; safety advocacy groups; insurance companies; and others selected with a view toward achieving varied perspectives on ELDT. In an effort to balance these interests to the extent practicable, the FMCSA Acting Administrator appointed 26 members on January 30, 2015, who will each serve for up to one two-year term. The members met for the first time Thursday-Friday, February 26-27, 2015.

II. Meeting Participation

Oral comments from the public will be heard during the meeting, as managed by the Reg Neg facilitator.

III. Submitting Written Comments

Members of the public may submit written comments on the topics to be considered during the meeting one week prior to each meeting to Federal Docket Management System (FDMC) Docket Number FMCSA-2007-27748. If you submit a comment, please include the docket number for this notice (FMCSA-2007-27748). You may submit your comments and material online or by fax, mail, or hand delivery, but please use only one of these means. FMCSA recommends that you include your name and a mailing address, an email address, or a phone number in the body of your document so that FMCSA can contact you if there are questions regarding your submission.

To submit your comment online, go to http://www.regulations.gov, put the docket number, FMCSA-2007-27748, in the keyword box, and click “Search.” When the new screen appears, click on the “Comment Now!” button and type your comment into the text box on the following screen. Choose whether you are submitting your comment as an individual or on behalf of a third party and then submit.

If you submit your comments by mail or hand delivery, submit them in an unbound format, no larger than 8½ by 11 inches, suitable for copying and electronic filing.

Viewing Comments and Documents

To view comments, as well as any documents mentioned in this preamble as being available in the docket, go to http://www.regulations.gov. Insert the docket number, FMCSA-2007-27748, in the keyword box, and click “Search.” Next, click the “Open Docket Folder” button and choose the document to review. If you do not have access to the Internet, you may view the docket online by visiting the Docket Management Facility in Room W12-140 on the ground floor of the DOT West Building, 1200 New Jersey Avenue SE., Washington, DC 20590, between 9 a.m. and 5 p.m., E.T., Monday through Friday, except Federal holidays.

Privacy Act

DOT posts comments, without edit, including any personal information the commenter provides, to www.regulations.gov, as described in the system of records notice (DOT/ALL-14 FDMS), which can be reviewed at www.dot.gov/privacy.

IV. Future Committee Meetings and Rulemaking Calendar

In coordination with the Reg Neg facilitator, FMCSA has developed this schedule of committee meetings, running through May 2015.

FMCSA intends to complete the Reg Neg process for the proposed rule within the first half of 2015 and to publish a Notice of Proposed Rulemaking (NPRM) this year, followed by a Final Rule in 2016. After the conclusion of the committee meetings, the Agency will draft the NPRM, which is expected to take approximately 6-8 weeks, depending on the degree of consensus on the issues and the supporting data developed by the committee. The NPRM will then be reviewed by DOT's Office of the Secretary and the Office of Management and Budget (OMB). The Agency will then publish the NPRM for public comment.

Following the close of the public comment period the Agency will evaluate and respond to public comments as it drafts a final rule, which will also undergo Departmental and OMB review. Although the time needed to address public comments to an NPRM that has been developed through a successful negotiated rulemaking process is typically shorter than for rules conducted through the ordinary informal notice and comment process, the Agency must nonetheless address substantive public comments in the final rule, in accordance with the Administrative Procedure Act. While the Agency cannot state with certainty the time required to complete the Reg Neg process and notice and comment rulemaking, the target date for publication of an NPRM is October 15, 2015.

Issued on: March 2, 2015.
Larry W. Minor,
Associate Administrator for Policy.

[FR Doc. 2015-05197 Filed 3-5-15; 8:45 am]

BILLING CODE 4910-EX-P